FEDERAL DEPOSIT INSURANCE CORPORATION

Agency Information Collection Activities: Submission for OMB Review; Comment Request

AGENCY: Federal Deposit Insurance Corporation (FDIC).

ACTION: Notice of information collection to be submitted to OMB for review and approval under the Paperwork Reduction Act of 1995.

SUMMARY: In accordance with requirements of the Paperwork Reduction Act of 1995 (44 U.S.C. 3501 et seq.), the FDIC hereby gives notice that it plans to submit to the Office of Management and Budget (OMB) a request for OMB renewal of an information collection titled “Procedures for Monitoring Bank Secrecy Act Compliance.”

COMMENTS: Comments on this collection of information are welcome and should be submitted on or before September 15, 2004 to both the OMB reviewer and the FDIC contact listed below.

ADDRESSES: Interested parties are invited to submit written comments to Thomas Nixon, Legal Division, Federal Deposit Insurance Corporation, 550 17th Street NW., Washington, DC. 20429. All comments should refer to “Procedures for Monitoring Bank Secrecy Act Compliance.” Comments may be hand-delivered to the guard station at the rear of the 17th Street Building (located on F Street), on business days between 7 a.m. and 5 p.m. Comments may also be submitted to the OMB desk officer for the FDIC: Mark Menchik, Office of Information and Regulatory Affairs, Office of Management and Budget, New Executive Office Building, Washington, DC 20503.

SUPPLEMENTARY INFORMATION: Title: Procedures for Monitoring Bank Secrecy Act Compliance.

OMB Number: 3064-0087.

Affected Public: State chartered non-member banks.

Frequency of Response: On occasion.

Estimated Annual Number of Respondents: 5300.

Estimated Time per Response: One-half hour.

Estimated Total Annual Burden: 2650 hours.

General Description of Collection: The FDIC's 12 CFR Part 326, Subpart B, requires all insured nonmember banks to establish and maintain procedures designed to assure and monitor their compliance with the requirements of the Bank Secrecy Act (31 U.S.C. 5311 et seq.) and the implementing regulations promulgated by the Department of the Treasury at 31 CFR Part 103. Further information about this submission, including copies of the collection of information, may be obtained by calling or writing the FDIC contact listed above.

Dated: August 11, 2004.
Federal Deposit Insurance Corporation.
Robert E. Feldman,
Executive Secretary.

[FR Doc. 04-18659 Filed 8-13-04; 8:45 am]

BILLING CODE 6714-01-P